DEPARTMENT OF THE INTERIOR

National Park Service

[NPS-WASO-NRNHL-DTS#-32674; PPWOCRADI0, PCU00RP14.R50000]

National Register of Historic Places; Notification of Pending Nominations and Related Actions

AGENCY: National Park Service, Interior.

ACTION: Notice.

SUMMARY: The National Park Service is soliciting electronic comments on the significance of properties nominated before September 11, 2021, for listing or related actions in the National Register of Historic Places.

DATES: Comments should be submitted electronically by October 6, 2021.

ADDRESSES: Comments are encouraged to be submitted electronically to National_Register_Submissions@nps.gov with the subject line “Public Comment on <property or proposed district name, (County) State.>” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 11, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

MINNESOTA

Hennepin County

Excelsior Commercial Historic District, Roughly bounded by Lake St., West Dr., 3rd St., and East Dr., Excelsior, SG100007070

Alano Society of Minneapolis Clubhouse, 2218 1st Ave. South, Minneapolis, SG100007071

MINNEHAHA (steamboat), 104 George St., Excelsior, SG100007073

Martin County

Sherburn Community Building, (Federal Relief Construction in Minnesota, 1933-1943 MPS (AD)), 116 North Main St., Sherburn, MP100007072

Winona County

Windom Park Residential Historic District, Roughly bounded by West 5th, Huff, West Broadway, Harriet, and Wilson Sts., Winona, SG100007069

NEW YORK

Steuben County

Rockland Silk Mill, 18 North Main St., Hornell, SG100007076

PUERTO RICO

Yauco Municipality

Public Health Unit at Yauco, (Puerto Rico Reconstruction Administration MPS), 64 Comercio St., Yauco, MP100007078

RHODE ISLAND

Providence County

Donwell's Diner-Worcester Lunch Car Company Diner No. 774,

560 Mineral Springs Ave., Pawtuket, SG100007075

TEXAS

Cameron County

Palmville, 1400 North Reagan St., San Benito, SG100007077

Comal County

Main Plaza, Main Plz., New Braunfels, SG100007074

(Authority: Section 60.13 of 36 CFR part 60)

Dated: September 11, 2021.
Sherry A. Frear,
Chief, National Register of Historic Places/National Historic Landmarks Program.

[FR Doc. 2021-20350 Filed 9-20-21; 8:45 am]

BILLING CODE 4312-52-P